INTERNATIONAL TRADE COMMISSION

[Inv. No. 337-TA-764]

In the Matter of Certain Digital Televisions and Components Thereof, and Certain Electronic Devices Having a Blu-Ray Disc Player and Components Thereof; Notice of Investigation

AGENCY: U.S. International Trade Commission.

ACTION: Institution of investigation pursuant to 19 U.S.C. 1337.

SUMMARY: Notice is hereby given that a first complaint was filed with the U.S. International Trade Commission on February 4, 2011, under section 337 of the Tariff Act of 1930, as amended, 19 U.S.C. 1337, on behalf of LG Electronics, Inc. The complaint alleges violations of section 337 based upon the importation into the United States, the sale for importation, and the sale within the United States after importation of certain digital televisions and components thereof by reason of infringement of certain claims of U.S. Patent No. 6,785,906 (the '906 patent), U.S. Patent No. RE 37,326 (the '326 patent), U.S. Patent No. 5,533,071 (the '071 patent), and U.S. Patent No. 5,923,711 (the '711 patent). The complaint further alleges that an industry in the United States exists as required by subsection (a)(2) of section 337.

The complainant requests that the Commission institute an investigation and, after the investigation, issue an exclusion order and a cease and desist order.

Notice is also given that a second complaint was filed with the U.S. International Trade Commission on February 4, 2011, under section 337 of the Tariff Act of 1930, as amended, 19 U.S.C. 1337, on behalf of LG Electronics, Inc. The complaint alleges violations of section 337 based upon the importation into the United States, the sale for importation, and the sale within the United States after importation of certain electronic devices having a Blu-ray Disc player and components thereof by reason of infringement of certain claims of U.S. Patent No. 7,701,835 (the '835 patent), U.S. Patent No. 7,577,080 (the '080 patent), U.S. Patent No. 7,619,961 (the '961 patent), and U.S. Patent No. 7,756,398 (the '398 patent). The complaint further alleges that an industry in the United States exists as required by subsection (a)(2) of section 337.

The complainant requests that the Commission institute an investigation and, after the investigation, issue an exclusion order and a cease and desist order.

ADDRESSES: The complaints, except for any confidential information contained therein, are available for inspection during official business hours (8:45 a.m. to 5:15 p.m.) in the Office of the Secretary, U.S. International Trade Commission, 500 E Street, SW., Room 112, Washington, DC 20436, telephone 202-205-2000. Hearing impaired individuals are advised that information on this matter can be obtained by contacting the Commission's TDD terminal on 202-205-1810. Persons with mobility impairments who will need special assistance in gaining access to the Commission should contact the Office of the Secretary at 202-205-2000. General information concerning the Commission may also be obtained by accessing its Internet server at http://www.usitc.gov. The public record for this investigation may be viewed on the Commission's electronic docket (EDIS) at http://edis.usitc.gov.

FOR FURTHER INFORMATION CONTACT: Thomas S. Fusco, Esq., Office of Unfair Import Investigations, U.S. International Trade Commission, telephone (202) 205-2571.

Authority: The authority for institution of this investigation is contained in section 337 of the Tariff Act of 1930, as amended, and in section 210.10 of the Commission's Rules of Practice and Procedure, 19 CFR 210.10 (2010).

Scope of Investigation: Having considered the complaints, the U.S. International Trade Commission, on March 3, 2011, ordered that—

(1) Pursuant to subsection (b) of section 337 of the Tariff Act of 1930, as amended, a consolidated investigation be instituted to determine whether there is a violation of subsection (a)(1)(B) of section 337 in the importation into the United States, the sale for importation, or the sale within the United States after importation of certain digital televisions and components thereof that infringe one or more of claims 1-9, 11-12, and 16-19 of the '906 patent, claims 29, 32, 35, 38 and 40 of the '326 patent, claim 1 of the '071 patent, and claims 1, 14, 31, and 38 of the '711 patent; whether there is a violation of subsection (a)(1)(B) of section 337 in the importation into the United States, the sale for importation, or the sale within the United States after importation of certain electronic devices having a Blu-ray Disc player and components thereof that infringe one or more of claims 14-20 and 27-33 of the '835 patent, claims 16-29 of the '080 patent, claims 1-2, 5-7, 9-10 and 13-15 of the '961 patent and claims 10 and 14 of the '398 patent; and whether an industry in the United States exists as required by subsection (a)(2) of section 337;

(2) For the purpose of the investigation so instituted, the following are hereby named as parties upon which this notice of investigation shall be served:

(a) The complainant is: LG Electronics, Inc., LG Twin Towers, 20, Yeouido-dong, Yeongdeungpo-gu, Seoul 150-721, Korea.

(b) The respondents are the following entities alleged to be in violation of section 337, and are the parties upon which the complaint is to be served:

Sony Corporation, 7-1 Konan, 1-chome, Minato-ku, Tokyo 108-0075, Japan;

Sony Corporation of America, 550 Madison Avenue, New York, NY 10022;

Sony Electronics, Inc., 16530 Via Esprillo, San Diego, CA 92127;

Sony Computer Entertainment, Inc., 2-6-21, Minami-Aoyama, Minato-ku, Tokyo 107-0062, Japan;

Sony Computer Entertainment America LLC, 919 East Hillsdale Blvd., Foster City, CA 94404.

(c) The Commission investigative attorney, party to this investigation, is Thomas S. Fusco, Esq., Office of Unfair Import Investigations, U.S. International Trade Commission, 500 E Street, SW., Suite 401, Washington, DC 20436; and

(3) For the investigation so instituted, the Honorable Paul J. Luckern, Chief Administrative Law Judge, U.S. International Trade Commission, shall designate the presiding Administrative Law Judge.

Responses to the complaints and the notice of investigation must be submitted by the named respondents in accordance with section 210.13 of the Commission's Rules of Practice and Procedure, 19 CFR 210.13. Pursuant to 19 CFR 201.16(d)-(e) and 210.13(a), such responses will be considered by the Commission if received not later than 20 days after the date of service by the Commission of the complaints and the notice of investigation. Extensions of time for submitting responses to the complaints and the notice of investigation will not be granted unless good cause therefore is shown.

Failure of a respondent to file a timely response to each allegation in the complaints and in this notice may be deemed to constitute a waiver of the right to appear and contest the allegations of the complaints and this notice, and to authorize the administrative law judge and the Commission, without further notice to the respondent, to find the facts to be as alleged in the complaints and this notice and to enter an initial determination and a final determination containing such findings, and may result in the issuance of an exclusion order or a cease and desist order or both directed against the respondent.

By order of the Commission.
Issued: March 3, 2011.
James R. Holbein,
Acting Secretary to the Commission.

[FR Doc. 2011-5399 Filed 3-8-11; 8:45 am]

BILLING CODE 7020-02-P